ENVIRONMENTAL PROTECTION AGENCY

[EPA—New England Region I—EPA-R01-OW-2008-20214; FRL-8570-5]

Massachusetts Marine Sanitation Device Standard—Receipt of Petition

AGENCY: Environmental Protection Agency (EPA).

ACTION: Notice—Receipt of Petition.

SUMMARY: Notice is hereby given that a petition has been received from the state of Massachusetts requesting a determination by the Regional Administrator, U.S. Environmental Protection Agency, that adequate facilities for the safe and sanitary removal and treatment of sewage from all vessels are reasonably available for the waters of Cape Cod Bay in the towns of Provincetown, Truro, Wellfleet, Eastham, Orleans, Brewster, Dennis, Yarmouth, Barnstable, Sandwich and Bourne.

DATES: Comments are due by June 23, 2008.

ADDRESSES: Submit your comments, identified by Docket ID No. EPA-R01-OW-2008-0214 by one of the following methods: http://www.regulations.gov. Follow the on-line instructions for submitting comments.

• E-mail: rodney.ann@epa.gov.

• Fax: (617) 918-0538.

Mail and hand delivery: U.S. Environmental Protection Agency—New England Region, One Congress Street, Suite 1100, COP, Boston, MA 02114-2023. Deliveries are only accepted during the Regional Office's normal hours of operation (8 a.m.-5 p.m., Monday through Friday, excluding legal holidays), and special arrangements should be made for deliveries of boxed information.

Instructions: Direct your comments to Docket ID No. EPA-R01-OW-2008-0212. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the U.S. Environmental Protection Agency—New England Region, One Congress Street, Suite 1100, COP, Boston, MA 02114-2023. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, One Congress Street, Suite 1100, COP, Boston, MA 02114-2023. Telephone: (617) 918-1538, Fax number: (617) 918-0538; e-mail address: rodney.ann@epa.gov.

SUPPLEMENTARY INFORMATION: Notice is hereby given that a petition has been received from the Commonwealth of Massachusetts requesting a determination by the Regional Administrator, U.S. Environmental Protection Agency, pursuant to Section 312(f)(3) of Public Law 92-500 as amended by Public Law 95-217 and Public Law 100-4, that adequate facilities for the safe and sanitary removal and treatment of sewage from all vessels are reasonably available for the area within the following boundaries:

Waterbody/general area | Latitude | Longitude
Eastern Landward Boundary-Line of longitude |  | 70°10′00″ W
Northeastern Seaward Boundary | 42°08′00″ N | 70°10′00″ W
Boundary curves west along the 3-mile limit and intersects with the Mean High Water line | 42°09′00″ N | 70°42′00″ W

The proposed NDA boundary includes the municipal waters of Provincetown, Truro, Wellfleet, Eastham, Orleans, Brewster, Dennis, Yarmouth, Barnstable, Sandwich and Bourne and extends to the boundary between state and federal waters. Cape Cod Bay is bordered on three sides by the geographic landforms of Cape Cod and the South Shore of Massachusetts.

There are marinas, yacht clubs and public landings/piers in the proposed area with a combination of mooring fields and dock space for the recreational and commercial vessels. Massachusetts has certified that there are seven pumpout facilities within the proposed area available to the boating public and two additional facilities pending. The majority of facilities are connected to a holding tank, which is emptied by a licensed septic hauler that transports the waste to an approved disposal facility. A list of the facilities, phone numbers, locations, and hours of operation is provided at the end of this petition.

Massachusetts has provided documentation indicating that the total vessel population is estimated to be 3250 in the proposed area. It is estimated that 2010 of the total vessel population may have a Marine Sanitation Device (MSD) of some type.

In 1974, the Massachusetts Oceans Sanctuaries Act recognized Cape Cod Bay as an important ocean sanctuary. In 1990, EPA designated Cape Cod Bay as an “Estuary of National Significance” under its National Estuary Program as part of the Mass Bays Program. Four state-recognized Areas of Critical Environmental Concern are within Cape Cod Bay. Cape Cod Bay also contains federally designated Critical Habit for rare and endangered species of marine mammals, including the endangered Northern Atlantic Right whale and Humpback whale. In addition, Cape Cod Bay contains critical habitat (e.g., eelgrass beds, mud flats, estuaries, etc.) for other rare, endangered, and/or economically important species of coastal and pelagic birds (Roseate Tern and Piping Plover), fish (winter flounder, haddock, cod, stripped bass, herring, lobster, crabs, etc.), and turtles (Hawksbill sea turtle, Kemp's Ridley sea turtle, Leatherback sea turtle, Green turtle, Loggerhead sea turtle and Diamondback Terrapin). Cape Cod Bay has over 390 public beaches and there are an estimated 410,000 acres of shellfish growing areas between Provincetown and the Back River in Hull. All of these important natural resources would benefit from a No Discharge Area.

Pumpout Facilities Within Proposed No Discharge Area
Name | Location | Contact info. | Hours | Mean low water depth
Sandwich Marina | Sandwich | (508) 833-0808 VHF 9, 16 | 8 a.m.-5 p.m. 7 days a week | 5 ft.
Barnstable Town Marina | Barnstable | (508) 790-6272 VHF 9, 16 | 8 a.m.-4 p.m. 7 days a week | 4.5 ft.
Northside Marina | East Dennis | (508) 385-3936 VHF 7 | 8 a.m.-5 p.m. 7 days a week | 8 ft.
Orleans Town Pier at Rock Harbor | Orleans | (508) 240-3755 VHF 16, 66 | 8 a.m.-4 p.m. 7 days a week | 4 ft.
Town of Wellfleet Marina | Wellfleet | (508) 349-0320 VHF 9 | 8 a.m.-6 p.m. 7 days a week | 6 ft.
Provincetown Harbor | Provincetown | (508) 487-7030 VHF 9,16 | 10 a.m.-4 p.m. 7 days a week | 6 ft.
Pending
** Dennis | Dennis | TBD | TBD | N/A.
Provincetown | Provincetown | TBD | TBD | N/A.
** = Pending facilities, installation to be completed by June 30, 2008.

Dated: May 16, 2008.
Robert W. Varney,
Regional Administrator, New England Region.

[FR Doc. E8-11613 Filed 5-22-08; 8:45 am]

BILLING CODE 6560-50-P